DEPARTMENT OF HEALTH AND HUMAN SERVICES

Centers for Medicare & Medicaid Services

42 CFR Parts 430, 433, 447, 455, and 457

[CMS-2393-N]

RIN 0938-AT50

Medicaid Program; Medicaid Fiscal Accountability Regulation; Supplement and Extension of Comment Period

AGENCY: Centers for Medicare & Medicaid Services (CMS), HHS.

ACTION: Proposed rule; supplement and extension of comment period.

SUMMARY: This document extends the comment period for the proposed rule entitled “Medicaid Program; Medicaid Fiscal Accountability Regulation” that appeared in the November 18, 2019 Federal Register. The comment period for the proposed rule, which would end on January 17, 2020, is extended 15 days to February 1, 2020. We additionally note that based on public comments received on this proposed rule, we will adjust the effective dates of our policies to allow for adequate implementation timelines, as appropriate.

DATES: The comment period for the proposed rule published November 18, 2019 (84 FR 63722), is extended to 5 p.m., eastern daylight time, on February 1, 2020.

ADDRESSES: You may submit comments as outlined in the November 18, 2019 proposed rule (84 FR 63722). Please choose only one method listed.

FOR FURTHER INFORMATION CONTACT:

Andrew Badaracco, (410) 786-4589, Richard Kimball, (410) 786-2278, and Daniil Yablochnikov, (410) 786-8912, for Medicaid Provider Payments, Supplemental Payments, Upper Payment Limits, Provider Categories, Intergovernmental Transfers, and Certified Public Expenditures.

Timothy Davidson, (410) 786-1167, Jonathan Endelman, (410) 786-4738, and Stuart Goldstein, (410) 786-0694, for Health Care-Related Taxes, Provider-Related Donations, and Disallowances.

Lia Adams, (410) 786-8258, Charlie Arnold, (404) 562-7425, Richard Cuno, (410) 786-1111, and Charles Hines, (410) 786-0252, for Medicaid Disproportionate Share Hospital Payments and Overpayments.

Jennifer Clark, (410) 786-2013 and Deborah McClure, (410) 786-3128, for Children's Health Insurance Program (CHIP).

SUPPLEMENTARY INFORMATION: In the “Medicaid Program; Medicaid Fiscal Accountability Regulation” proposed rule that appeared in the November 18, 2019 Federal Register (84 FR 63722), we solicited public comments on proposed policies that aim to promote transparency by establishing new reporting requirements for states to provide CMS with certain information on supplemental payments to Medicaid providers, including supplemental payments approved under either Medicaid state plan or demonstration authority, and on applicable upper payment limits. Additionally, the proposed rule would establish requirements to ensure that state plan amendments proposing new supplemental payments are consistent with the proper and efficient operation of the state plan and with efficiency, economy, and quality of care. This proposed rule addresses the financing of supplemental and base Medicaid payments through the non-federal share, including states' uses of health care-related taxes and bona fide provider-related donations, as well as the requirements necessary to properly implement the non-federal share of any Medicaid payment.

Since the issuance of the proposed rule, we have received inquiries from a variety of stakeholders, including healthcare provider organizations and industry representatives requesting an extension to the comment period. We also recognize that the comment period for the proposed rule crosses over several federal holidays, which may hinder the ability of the public to provide meaningful comment on the proposed rule. In order to maximize the opportunity for the public to provide meaningful input to CMS, we believe that it is important to allow additional time for the public to prepare comments on the proposed rule. In addition, we believe that granting an extension to the public comment period in this instance would further our overall objective to obtain public input on the proposed provisions to promote transparency and oversight on payments made in the Medicaid program. Therefore, we are extending the comment period for the proposed rule for an additional 15 days.

While we believe it is in the best interest of the public and our proposed policies to extend the comment period for this proposed rule, we also acknowledge that stakeholders require appropriate implementation timelines that could be impacted by this extension. Therefore, we note that we will take this comment period extension into account in determining the effective date(s) of the policies in any final rule, to allow for adequate implementation timelines as appropriate.

Dated: December 19, 2019.
Seema Verma,
Administrator, Centers for Medicare & Medicaid Services.

[FR Doc. 2019-28179 Filed 12-26-19; 4:15 pm]

BILLING CODE 4120-01-P